DEPARTMENT OF LABOR

Office of the Workers' Compensation Programs

[OMB Control No. 1240-0NEW]

Proposed New Information Collection: Actuarial Attestation Regarding War Risk Hazard Provisions in Defense Base Act Premiums, WH-2

AGENCY: Office of Workers' Compensation Programs, Division of Federal Employees' Compensation, (OWCP/DFEC) Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Workers' Compensation Programs, Division of Federal Employees' Compensation, (OWCP/DFEC) is soliciting comments on the information collection for the Actuarial Attestation Regarding War Risk Hazard Provisions in Defense Base Act Premiums, WH-2.

DATES: All comments must be received on or before February 17, 2026.

ADDRESSES: You may submit comment as follows. Please note that late, untimely filed comments will not be considered.

Electronic Submissions: Submit electronic comments in the following way:

• Federal eRulemaking Portal: https://www.regulations.gov. Follow the instructions for submitting comments for WCPO-2025-0105. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail or visit DOL-OWCP/DFEC, Office of Workers' Compensation Programs, Division of Federal Employees' Compensation, U.S. Department of Labor, 200 Constitution Ave. NW, Room S-3323, Washington, DC 20210.

• OWCP will post your comment as well as any attachments, except for information submitted and marked as confidential, in the docket at https://www.regulations.gov.

FOR FURTHER INFORMATION CONTACT: Anjanette Suggs, Office of Workers' Compensation Programs, OWCP/DFEC, at suggs.anjanette@dol.gov (email); (202) 354-9660 (voice).

SUPPLEMENTARY INFORMATION:

I. Background

The War Hazards Compensation Act (WHCA), 42 U.S.C. 1701 et seq., provides reimbursement to insurance carriers and self-insured employers for workers' compensation benefits paid under the Defense Base Act (DBA) (an extension of the Longshore and Harbor Workers' Compensation Act (LHWCA)) due to injuries or death resulting from a war risk hazard.

Currently, OWCP utilizes the CA-278 form for insurance carriers and self-insured employers to request reimbursement. The form is used for submission of reimbursement requests. There is currently no adequate form for an Actuarial Attestation under the WHCA. The insurance carriers and self-insured are required to verify that no additional premium was charged for war-risk hazard claims.

Under Section 104 of the WHCA, private insurance carriers or self-insured employers may seek reimbursement for payments made in conjunctions with a WHCA-covered injury. 20 CFR 61.100 states:

Under 20 CFR 61.100: (a) The Office shall reimburse any carrier that pays benefits under the Defense Base Act or other applicable workers' compensation law due to the injury, disability or death of any person specified in Sec. 61.1(a), if the injury or death for which the benefits are paid arose from a war-risk hazard. The amount to be reimbursed includes disability and death payments, funeral and burial expenses, medical expenses, and the reasonable and necessary claims expense incurred in processing the request.” (b) The Office shall not provide reimbursement in any case in which an additional premium for war-risk hazard was charged, or in which the carrier has been reimbursed, paid, or compensated for the loss for which reimbursement is requested.

See: USCODE-2023-title42-chap12-subchapI-sec1701.pdf.

War Hazards Compensation Act | U.S. Department of Labor.

eCFR:: 20 CFR 61.100—General reimbursement provisions.

II. Desired Focus of Comments

OWCP/DFEC is soliciting comments concerning the proposed information collection related to the Actuarial Attestation Regarding War Risk Hazard Provisions in Defense Base Act Premiums. OWCP/DFEC is particularly interested in comments that:

• Evaluate whether the collection of information is necessary for the proper performance of the functions of the Agency, including whether the information has practical utility;

• Evaluate the accuracy of OWCP/DFEC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov and at DOL-OWCP/DFEC located at 200 Constitution Ave. NW, Room S-3323, Washington, DC 20210. Questions about the information collection requirements may be directed to the person listed in the FOR FURTHER INFORMATION section of this notice.

III. Current Actions

This information collection request concerns the Actuarial Attestation Regarding War Risk Hazard Provisions in Defense Base Act Premiums, WH-2. OWCP/DFEC has updated the data with respect to the number of respondents, responses, burden hours, and burden costs supporting this information collection request from the previous information collection request.

Type of Review: New collection.

Agency: Office of Workers' Compensation Programs, Division. of Federal Employees' Compensation, OWCP/DFEC.

OMB Number: 1240-0NEW.

Affected Public: Business or other for profit.

Number of Respondents: 1.

Frequency: Once per year.

Number of Responses: 12.

Annual Burden Hours: 12 hours.

Annual Respondent or Recordkeeper Cost: $671.00.

OWCP/DFEC Form: 1240-ONEW: Form WH-2, Actuarial Attestation Regarding War Risk Hazard Provisions in Defense Base Act Premiums.

Comments submitted in response to this notice will be summarized in the request for Office of Management and Budget approval of the proposed information collection request; they will become a matter of public record and will be available at https://www.reginfo.gov.

Anjanette Suggs,
Certifying Officer.

[FR Doc. 2025-23134 Filed 12-16-25; 8:45 am]

BILLING CODE 4510-CH-P